DEPARTMENT OF COMMERCE

National Oceanic and Atmospheric Administration

50 CFR Part 660

[Docket No. 020523131-2131-01; I.D. 051502C]

RIN 0648-AQ01

Fisheries Off West Coast States and in the Western Pacific; Western Pacific Pelagic Fisheries; American Samoa; Control Date

AGENCY: National Marine Fisheries Service (NMFS), National Oceanic and Atmospheric Administration (NOAA), Commerce.

ACTION: Advance notice of proposed rulemaking; establishment of a revised control date.

SUMMARY: NMFS announces that persons who enter the pelagic longline fishery in the U.S. exclusive economic zone (EEZ) around American Samoa after March 21, 2002, (“control date”) are not guaranteed future participation in the fishery if the Western Pacific Fishery Management Council (Council) prepares and NMFS approves a program limiting entry or effort. This action does not commit the Council or NMFS to limit entry, or prevent any other date from being selected for eligibility to participate in the American Samoa longline fishery. The Council or NMFS may also use other criteria to limit fishing effort or participation in a limited entry program that is developed in the future.

DATES: Comments must be submitted in writing by July 3, 2002.

ADDRESSES: Comments may be mailed to Dr. Charles Karnella, Administrator, NMFS, Pacific Islands Area Office, 1601 Kapiolani Blvd., Suite 1110, Honolulu, HI 96814-4700; or faxed to 808-973-2941. Comments will not be accepted if submitted via e-mail or Internet.

FOR FURTHER INFORMATION CONTACT: Kitty M. Simonds, Council Executive Director, at 808-522-8220.

SUPPLEMENTARY INFORMATION: Between 1996 and 2001, the domestic longline fishery operating in waters of the EEZ around American Samoa grew appreciably in both size and landings. In 1996, 13 small vessels using longline gear landed approximately 233,000 lb (106 mt) of albacore in American Samoa; however, by the end of 2001 more than seven million lb (3,176 mt) of albacore were landed by 78 longline fishing vessels of various sizes. Due to their size and limited fishing range, the smaller local longline vessels generally do not travel beyond 50 nm offshore from the islands. Although the larger domestic longline vessels (>50 ft in length) are capable of fishing beyond 200 nm from the islands of American Samoa, only a few have agreements with neighboring Pacific island nations, such as Tonga or Samoa (formerly known as Western Samoa), to fish the EEZs of Tonga and Samoa. Furthermore, U.S. longline fishing vessels do not have access to the high seas in proximity to American Samoa under the South Pacific Tuna Act. However, it is expected that access to those waters will be available no later than June 2003. Hence, domestic longline vessels are predominantly confined to fishing within the EEZ around American Samoa. In anticipation of an eventual need to limit this fishing effort due to the concentration of longliners operating around American Samoa, the Council recommended and NMFS established 50-nm area closures in nearshore EEZ waters around the islands to all large fishing vessels, including longliners, that target pelagic species (67 FR 4369, January 30, 2002). Also, the Council previously established two control dates (November 13, 1997 and July 15, 2000) for this fishery. Control dates are intended to discourage speculative entry into fisheries, as new entrants entering the fishery after the control date are forewarned that they are not guaranteed future participation in the fishery. The Council recommended that NMFS issue a third control date of March 21, 2002, while it develops a limited entry system for the domestic longline fishery based in American Samoa. The Council recommended this new control date, which is hereby established by NMFS, because fishery data up to March 21, 2002, did not indicate that the number of vessels or level of fishing effort was causing gear conflict or adverse impact on fishery stocks. It is assumed that limiting entry to the participants in the fishery before the previous control date would unnecessarily restrict fishing effort and limit economic returns from this resource. This new control date supersedes both the 1997 and 2000 control dates.

This control date does not commit the Council or NMFS to any particular management regime or criteria for entry into the American Samoa longline fishery. Fishermen are not guaranteed future participation in this fishery, regardless of their level of participation before or after the control date. The Council may choose a different control date or it may choose a management regime that does not involve a control date. Other criteria, such as documentation of commercial landings and sales, may be used to determine eligibility for participation in a limited access fishery. The Council also may choose to take no further action to control entry or access to the fishery, in which case the control date may be rescinded.

This advance notice of proposed rulemaking has been determined to be not significant for the purposes of Executive Order 12866.

Authority: 16 U.S.C. 1801 et seq.

Dated: May 28, 2002.
John Oliver,
Deputy Assistant Administrator for Operations, National Marine Fisheries Service.

[FR Doc. 02-13854 Filed 5-31-02; 8:45 am]

BILLING CODE 3510-22-S